DEPARTMENT OF TRANSPORTATION

Pipeline and Hazardous Materials Safety Administration

[Docket No: PHMSA-2022-0060]

Pipeline Safety: Information Collection Activities: Voluntary Adoption of API RP 1173 for Gas Distribution Systems

AGENCY: Pipeline and Hazardous Materials Safety Administration (PHMSA), DOT.

ACTION: Notice and request for comments.

SUMMARY: In accordance with the Paperwork Reduction Act of 1995, PHMSA invites public comments on its intent to request Office of Management and Budget (OMB) approval of a new, one-time information collection titled: “Voluntary Adoption of API RP 1173 for Gas Distribution Systems.” The proposed information collection would provide data necessary to prepare the report required by Section 205 of the Protecting Our Infrastructure of Pipelines and Enhancing Safety (PIPES) Act of 2020 for gas distribution systems.

DATES: Interested persons are invited to submit comments on or before November 7, 2022.

ADDRESSES: Comments may be submitted in the following ways:

E-Gov Website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., ET, Monday through Friday, except federal holidays.

Instructions: Identify the docket number, PHMSA-2022-0060 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m., ET, Monday through Friday, except federal holidays. If you wish to receive confirmation of receipt of your written comments, please include a self-addressed, stamped postcard with the following statement: “Comments on: PHMSA-2022-0060.” The Docket Clerk will date stamp the postcard prior to returning it to you via the U.S. mail. Please note that due to delays in the delivery of U.S. mail to federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) mark each page of the original document submission containing CBI as “Confidential”; (2) send PHMSA, along with the original document, a second copy of the original document with the CBI deleted; and (3) explain why the information you are submitting is CBI. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202-366-1246 or by email at Angela.Hill@dot.gov.

SUPPLEMENTARY INFORMATION:

I. Background

In July 2015, the American Petroleum Institute (API) published Recommended Practice (RP) 1173, Pipeline Safety Management Systems (SMS). The Pipeline SMS recommended practice was the culmination of a two-year effort by pipeline operators, state and federal regulators, and other stakeholders.

On September 13, 2018, a low-pressure gas distribution system owned and operated by Columbia Gas of Massachusetts was over pressured in Lawrence, Andover, and North Andover, MA (Merrimack Valley) resulting in a series of structure fires and explosions causing 1 fatality, 22 persons injured, 131 structures destroyed or damaged, and approximately 11,000 customers without gas service for months. NTSB investigated the incident and determined that the probable cause of the Merrimack Valley incident was Columbia Gas of Massachusetts' weak engineering management that did not adequately plan, review, sequence, and oversee the construction project that led to the abandonment of a cast iron main without first relocating regulator sensing lines to the new polyethylene main.

After the Merrimack Valley incident, Senator Ed Markey (MA) hosted a Senate Commerce Committee field hearing on November 26, 2018, with Senator Elizabeth Warren (MA), Senator Maggie Hassan (N.H.), then-Congresswoman Niki Tsongas (MA-03), Congressman Seth Moulton (MA-06), and Congresswoman Lori Trahan. In April 2019, Senators Markey and Warren and Representative Lori Trahan (MA-03) introduced the “Leonel Rondon Pipeline Safety Act”. The bill in the Senate was sponsored by Senators Markey, Warren, and Richard Blumenthal (D-Conn.); Congresswoman Trahan introduced companion legislation in the House of Representatives. The bill aimed at establishing regulations that would improve gas pipeline operators' risk management plans, improve emergency response coordination with the public and first responders, institute best industry practices for holistic safety management, and mandate use of accurate and reliable maps and records. The resulting language through Section 205 of the PIPES Act of 2020 directed PHMSA to submit, by December 27, 2023, a report to Congress describing:

• the number of operators of natural gas distribution systems who have implemented a Pipeline SMS in accordance with API RP 1173;

• the progress made by operators of natural gas distribution systems who have implemented, or are in the process of implementing a Pipeline SMS; and

• the feasibility of an operator of a natural gas distribution system implementing a Pipeline SMS based on the size of the operator as measured by the number of customers the operator has and the amount of natural gas the operator transports.

PHMSA needs certain information from natural gas distribution operators to prepare the mandated report. While the PIPES Act mandate pointed specifically to API RP 1173, there are other SMS program variations available to natural gas distribution operators. Some operators may be using API RP 1173 as written to develop their SMS framework. Others may be using a modified version of API RP 1173, adding elements specific to their operations, or using a completely customized SMS program.

PHMSA may also use the information collected to assess the cost impacts of proposed changes in the pipeline safety regulations mandated by the Leonel Rondon Pipeline Safety Act (2137-AF53). For example, implementing an SMS program based on API RP 1173 requires the operator to maintain procedures for Management of Change (MOC) to be applied to significant technology, equipment, procedural, and organizational changes. Section 204 of the PIPES Act directs PHMSA to update regulations to ensure that gas distribution operators include a detailed MOC process in their procedural manual for operations, maintenance, and emergencies. The regulation update will have to also address emergency response plans and record keeping requirements which are two of elements of API RP 1173.

PHMSA has created a form for this information collection. A draft of this form, along with the associated instructions, can be found at www.regulations.gov under docket number PHMSA-2022-0060. Upon the collection of this information, PHMSA will analyze the data and prepare a report for Congress.

II. Summary of Impacted Collection

Section 1320.8(d), Title 5, Code of Federal Regulations, requires PHMSA to provide interested members of the public and affected entities an opportunity to comment on information collection and recordkeeping requests. This notice identifies a one-time information collection that PHMSA will submit to OMB for approval.

The following information is provided for this information collection: (1) Title of the information collection; (2) OMB control number; (3) Current expiration date; (4) Type of request; (5) Abstract of the information collection activity; (6) Description of affected public; (7) Estimate of total annual reporting and recordkeeping burden; and (8) Frequency of collection. PHMSA requests comments on the following information:

Title: Voluntary Adoption of API RP 1173 for Gas Distribution Systems.

OMB Control Number: Will request from OMB.

Current Expiration Date: TBD.

Type of Request: Approval of an information collection.

Abstract: This information collection request covers the collection of data from operators of natural gas distribution pipeline systems to ascertain how many gas distribution operators are voluntarily implementing API RP 1173, progress being made for those that have implemented or are implementing a Pipeline SMS, and feasibility to implement a Pipeline SMS based on size of the operator.

Affected Public: Natural gas distribution pipeline operators.

Annual Burden:

Estimated number of responses: 1,314.

Estimated annual burden hours: 1,314.

Frequency of Collection: Once.

Comments are invited on:

(a) The need for this information collections for the proper performance of the functions of the Agency, including whether the information will have practical utility;

(b) The accuracy of the Agency's estimate of the burden of the proposed collection of information, including the validity of the methodology and assumptions used;

(c) Ways to enhance the quality, utility, and clarity of the information to be collected;

(d) Ways to minimize the burden of the collection of information on those who are to respond, including the use of appropriate automated, electronic, mechanical, or other technological collection techniques; and

(e) Additional information that would be appropriate to collect to inform the reduction in risk to people, property, and the environment due to excavation damages.

Authority: The Paperwork Reduction Act of 1995; 44 U.S.C. chapter 35, as amended, and 49 CFR 1.48.

Issued in Washington, DC, on August 26, 2022, under authority delegated in 49 CFR 1.97.
Alan K. Mayberry,
Associate Administrator for Pipeline Safety.

[FR Doc. 2022-19094 Filed 9-2-22; 8:45 am]

BILLING CODE 4910-60-P